DEPARTMENT OF VETERANS AFFAIRS

48 CFR Part 828

RIN 2900-AP82

Revise and Streamline VA Acquisition Regulation To Adhere to Federal Acquisition Regulation Principles (VAAR Case 2014-V002); Correction

AGENCY: Department of Veterans Affairs.

ACTION: Final rule; correction.

SUMMARY: On February 21, 2018, the Department of Veterans Affairs (VA) published a final rule prescribing five new Economic Price Adjustment clauses for firm-fixed-price contracts, identifying VA's task-order and delivery-order ombudsman, clarifying the nature and use of consignment agreements, adding policy coverage on bond premium adjustments and insurance under fixed-price contracts, and providing for indemnification of contractors for medical research or development contracts. It contained an erroneous amendatory instruction citing the wrong CFR section. This document corrects that error.

DATES: This correction is effective on March 23, 2018.

FOR FURTHER INFORMATION CONTACT: Mr. Ricky Clark, Senior Procurement Analyst, Procurement Policy and Warrant Management Services, 003A2A, 425 I Street NW, Washington, DC 20001, (202) 632-5276 (this is not a toll-free telephone number).

SUPPLEMENTARY INFORMATION: In the final rule published February 21, 2018, at 83 FR 7401, effective March 23, 2018, an amendatory instruction intended for 48 CFR 828.306 cited incorrectly 38 CFR 816.306.

Therefore, in FR Rule Doc. No. 2018-03164, on page 7404, at the top of the third column, correct amendatory instruction 12 to read as follows:

12. Section 828.306 is amended by revising paragraph (a) to read as follows:

Dated: March 8, 2018.
Consuela Benjamin,
Regulations Development Coordinator, Office of Regulation Policy & Management, Office of the Secretary, Department of Veterans Affairs.

[FR Doc. 2018-04985 Filed 3-12-18; 8:45 am]

BILLING CODE 8320-01-P